DEPARTMENT OF THE TREASURY

United States Mint

Request for CCAC Membership Applications

SUMMARY: The United States Mint is accepting applications for membership to the Citizens Coinage Advisory Committee (CCAC) for two positions—a representative from the general public and a representative specially qualified in American history. Public Law 108-15 established the CCAC to:

• Advise the Secretary of the Treasury on any theme or design proposals relating to circulating coinage, bullion coinage, Congressional gold medals, and national and other medals produced by the United States Mint;

• Advise the Secretary of the Treasury with regard to the events, persons, or places that the Committee recommends to be commemorated by the issuance of commemorative coins in each of the five calendar years succeeding the year in which a commemorative coin designation is made; and

• Make recommendations with respect to the mintage level for any commemorative coin recommended.

Total membership consists of eleven voting members appointed by the Secretary of the Treasury:

• One person specially qualified by virtue of his or her education, training or experience as nationally or internationally recognized curator in the United States of a numismatic collection;

• One person specially qualified by virtue of his or her experience in the medallic arts or sculpture;

• One person specially qualified by virtue of his or her education, training, or experience in American history;

• One person specially qualified by virtue of his or her education, training, or experience in numismatics;

• Three persons who can represent the interests of the general public in the coinage of the United States; and

• Four persons appointed by the Secretary of the Treasury on the basis of the recommendations by the House and Senate leadership.

The Committee is subject to the direction of the Secretary of the Treasury. Meetings of the CCAC are open to the public and will be held bi-monthly on the third Wednesday. The United States Mint is responsible for providing the necessary support services for the Committee. Committee members are not paid for their time or services, but, consistent with Federal Travel Regulations, members are reimbursed for their travel and lodging expenses to attend approximately two meetings each year. Members may be subject to the Standards of Ethical Conduct for Employees of the Executive Branch (5 CFR Part 2653).

The United States Mint will review all submissions and will forward its recommendations to the Secretary of the Treasury for appointment consideration. Candidates who represent the interests of the general public should include their knowledge of history, youth interests, or an understanding of American culture and history. Candidates who believe that they are specially qualified to serve by reason of their education, training, or experience in the field of American history should include specific skills, abilities, talents, and credentials to support their applications. All candidates should submit any relevant information that demonstrates their qualifications to represent American history interests. The United States Mint is also interested in candidates who have demonstrated leadership skills, have received recognition by their peers in their field of interest, possess a record of participation in public service or activities, and are willing to commit the time and effort to participate in the Committee meetings and related activities.

Application Deadline: May 9, 2003.

Receipt of Applications: Any member of the public wishing to be considered for participation on the Committee should submit a resume, or letter describing qualifications for membership, by fax to 202-756-6539, or by mail to the United States Mint, 801 9th Street, NW., Washington, DC 20001, Attn: CCAC Membership. Submissions must be postmarked no later than May 9, 2003.

Dated: April 29, 2003.
Henrietta Holsman Fore,
Director, United States Mint.

[FR Doc. 03-10864 Filed 5-1-03; 8:45 am]

BILLING CODE 4810-37-P